DEPARTMENT OF ENERGY

Federal Energy Regulatory Commission

[Docket Nos. RP96-200-092, RP96-200-097, RP96-200-101, RP96-200-102, RP96-200-103, RP96-200-104, RP96-200-105, RP96-200-106, RP96-200-107, RP96-200-108, RP96-200-110, RP96-200-111, RP96-200-113, RP96-200-114 and IN03-11-000]

CenterPoint Energy Gas Transmission Company; Notice of Technical and Settlement Conference

November 12, 2003.

The Commission staff will hold a combined technical and settlement conference in the captioned dockets on November 19, 2003, beginning at 10 a.m. at the Commission's headquarters at 888 First St. NE., Washington, DC, in a room to be established. The technical conference will discuss issues raised by the September 15, 2003 Order in Docket Nos. RP96-200-092, et al., (104 FERC ¶ 61,280), which directed CenterPoint Energy Transmission Company (CEGT) to file certain tariff provisions and to modify certain non-conforming gas transportation agreements. The settlement conference will discuss the show cause Order issued September 15, 2003, in Docket No. IN03-11-000, (104 FERC ¶ 61,281), which required CEGT to show cause why its failure to report and post all of the non-conforming terms and conditions in its negotiated rate contracts does not violate certain provisions of the Natural Gas Act, the Commission's regulations and CEGT's negotiated rate authority.

Because the issues in all of the above captioned dockets are closely related, Commission staff believes that the discussion of these issues at a public technical and settlement conference, open to interested parties to the docket and Commission staff, will assist in an efficient resolution of these matters. Staff notes that, while the Commission's ex parte rules apply to the proceedings in Docket Nos. RP96-200-092, et al., (See 18 CFR 385.2201(b) and (c)(1)), they do not apply to the Show Cause docket because it is an investigative proceeding with no parties (See 18 CFR 1b.9, 1b.11, 385.2201(b) and 385.2201(c)(2)). Because the proceedings in Docket Nos. RP96-200-092 et al. are subject to the ex parte rules, only information that has been publicly filed with the Commission or is publicly presented at this technical and settlement conference will be considered by the Commission in resolving those dockets. Parties to the above captioned dockets desiring further information should contact John M. Robinson of the advisory staff at (202) 502-6808, or Stuart Fischer of the enforcement staff at (202) 502-8517.

Magalie R. Salas,
Secretary.

[FR Doc. E3-00316 Filed 11-18-03; 8:45 am]

BILLING CODE 6717-01-P